POSTAL REGULATORY COMMISSION

[Docket No. CP2009-36; Order No. 369]

Postal Product Price Changes

ACTION: Notice.

SUMMARY: The Commission is noticing a recently-filed Postal Service request to change prices for a Direct Entry Parcels contract. This notice provides an opportunity for the public to comment.

DATES: Comments are due: January 5, 2010.

ADDRESSES: Submit comments electronically via the Commission's Filing Online system at http://www.prc.gov. Commenters who cannot submit their views electronically should contact the person identified in “FOR FURTHER INFORMATION CONTACT” by telephone for advice on alternatives to electronic filing.

FOR FURTHER INFORMATION CONTACT: Stephen L. Sharfman, General Counsel, 202-789-6820 or stephen.sharfman@prc.gov.

SUPPLEMENTARY INFORMATION:

I. Postal Service Filing

II. Comments

III. Ordering Paragraphs

I. Postal Service Filing

On December 21, 2009, the Postal Service filed a notice of a change in prices under the Direct Entry Parcels contract.¹

¹ Notice of United States Postal Service of Change in Prices, December 21, 2009 (Notice).

Background. On July 31, 2009, the Commission issued Order No. 264 adding Direct Entry Parcels 1 (MC2009-26 and CP2009-36) to the Competitive Product List.² In that order, the Commission noted that the Direct Entry Parcels 1 contract “includes provisions that would permit price changes during the 1-year term of the contract.” Id. at 9. Price changes could result either from changes in the prices charged by Canada Post Corporation for Xpresspost, or from changes in costs incurred by the Postal Service relative to a specified threshold. Id. at 10. Order No. 264 directed the Postal Service to file a notice of any such price changes with the Commission prior to their effective date. Id.

² Docket Nos. MC2009-26 and CP2009-36, Order Concerning Direct Entry Parcels, International Return Service and Harmonization Service Negotiated Service Agreements, July 31, 2009 (Order No. 264).

Notice. The Postal Service states that the price changes it is proposing are “not the sort of automatic change[s] based on external, objective factors for which the Commission has permitted a relatively streamlined, notice-type filing procedure.” Notice at 1, n.1.³ The Postal Service's Notice includes (1) A redacted copy of the notice to the customer of new prices and supporting documentation establishing compliance with 39 U.S.C. 3633 and 39 CFR 3015.5;“⁴ and (2) the certified statement required by 39 CFR 3015.5(c)(2).⁵ Non-redacted copies of the customer notice and the certified statement have been filed under seal. The Notice also includes an application for non-public treatment of the non-redacted documents.⁶

³ Footnote 1 of the Notice refers to PRC Order No. 216, Docket No. CP2009-2, Order Concerning Filing of Additional Global Direct Contracts Negotiated Service Agreement, May 15, 2009, at 7 (Order No. 216). Order No. 216 permitted the Postal Service to make notice-type filings for non-discretionary price changes under Global Direct Contracts due to exchange rate fluctuations and Canada Post Corporation price changes.

⁴ Attachment 1 to the Notice.

⁵ Attachment 2 to the Notice.

⁶ Attachment 3 to the Notice.

II. Comments

Interested persons may submit comments on the Postal Service's December 21, 2009 filing no later than January 5, 2010. The public portion of the filing can be accessed via the Commission's Web site (http://www.prc.gov).

The Commission appoints Emmett Rand Costich to serve as the Public Representative in this proceeding.

III. Ordering Paragraphs

It is ordered:

1. The Commission reopens Docket No. CP2009-36 to consider the price changes proposed in the Postal Service's December 21, 2009 filing.

2. Pursuant to 39 U.S.C. 505, Emmett Rand Costich is appointed to serve as officer of the Commission to represent the interests of the general public in these proceedings.

3. Comments by interested persons in these proceedings are to be filed no later than January 5, 2010.

4. The Secretary shall arrange for publication of this order in the Federal Register.

By the Commission.
Shoshana M. Grove,
Secretary.

[FR Doc. E9-31073 Filed 12-30-09; 8:45 am]

BILLING CODE 7710-FW-S